DEPARTMENT OF AGRICULTURE

Natural Resources Conservation Service

Thirtymile Creek Watershed, MT

AGENCY: Natural Resources Conservation Service, USDA.

ACTION: Notice of intent to deauthorize federal funding.

SUMMARY: Pursuant to the Watershed Protection and Flood Prevention Act, Pub. L. 83-566, and the Natural Resources Conservation Service Guidelines (7 CFR Part 622), The Natural Resources Conservation Service gives notice of the intent to deauthorize Federal funding for the Thirtymile Creek Watershed Project, Blaine County, Montana.

FOR FURTHER INFORMATION CONTACT: Dave White, State Conservationist, Natural Resources Conservation Service, 10 East Babcock, Room 443, Bozeman, Montana, 59715, Telephone: 406-587-6811.

Thirtymile Creek Watershed, Montana

Notice of Intent To Deauthorize Federal Funding

SUPPLEMENTARY INFORMATION: A determination has been made by Dave White, State Conservationist that the proposed works of improvement for the Thirtymile Creek project will not be installed. One of the two sponsoring local organizations has concurred in this determination and agrees that Federal funding should be deauthorized for the project. Information regarding this determination may be obtained from Dave White, State Conservationist, at the above address and telephone number.

No administrative action on implementation of the proposed deauthorization will be taken until 60 days after the date of this publication in the Federal Register.

(Catalog of Federal Domestic Assistance Program No. 10.904, Watershed Protection and Flood Prevention. Office of Management and Budget Circular A-95 regarding State and Local clearinghouse review of Federal and federally assisted programs and projects is Applicable.)
Dated: February 19, 2004.
Dave White,
State Conservationist.

[FR Doc. 04-6201 Filed 3-18-04; 8:45 am]

BILLING CODE 3410-16-P